DEPARTMENT OF EDUCATION

Disability and Rehabilitation Research Projects (DRRP) Program

AGENCY: National Institute on Disability and Rehabilitation Research (NIDRR), Office of Special Education and Rehabilitative Services, Department of Education.

ACTION: Notice of final priorities.

SUMMARY: The Assistant Secretary for Special Education and Rehabilitative Services announces final priorities on Health Services Research; Mental Health Service Delivery to Deaf, Hard of Hearing, and Deaf-Blind Individuals from Diverse Racial, Ethnic, and Linguistic Backgrounds; and Developing Models To Promote the Use of NIDRR Research under the Disability and Rehabilitation Research Projects (DRRP) Program of the National Institute on Disability and Rehabilitation Research (NIDRR). The Assistant Secretary may use these priorities for competitions in fiscal year (FY) 2003 and later years. We take this action to focus research attention on an identified national need. We intend these priorities to improve rehabilitation services and outcomes for individuals with disabilities.

EFFECTIVE DATE: These priorities are effective October 15, 2002.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (the Act).

New Freedom Initiative and The NIDRR Long-Range Plan

This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

Supplementary Information: General

We published a notice of proposed priority (NPP) for Health Services Research projects in the Federal Register on May 29, 2002 (67 FR 37655). We also published separate NPPs for Mental Health Service Delivery to Deaf, Hard of Hearing, and Deaf-Blind Individuals from Diverse Racial, Ethnic, and Linguistic Backgrounds in the Federal Register on May 29, 2002 (67 FR 37653) and for Developing Models To Promote the Use of NIDRR Research under the Disability and Rehabilitation Research Projects in the Federal Register on May 29, 2002 (67 FR 37647). We have combined in this notice of final priorities (NFP) three priorities. This NFP contains several significant changes from the NPPs. Specifically, for the Mental Health Service Delivery to Deaf, Hard of Hearing, and Deaf-Blind Individuals from Diverse Racial, Ethnic, and Linguistic Backgrounds, we have made changes to include a question pertaining to the criminal justice system; an additional requirement that family members, as well as deaf, hard-of-hearing, and deaf-blind mental health consumers from diverse backgrounds be included in all stages of research; and that question (2) regarding model psychological testing instruments and mental health outcome measures be split into two separate research questions. For the Developing Models To Promote the Use of NIDRR Research under the Disability and Rehabilitation Research Projects, we have made three changes. We have added the words “principally”, “alternative”, and “rehabilitation researchers” and “family members” to the priority.

Analysis of Comments and Changes

In response to our invitation in the NPPs, several parties submitted comments on the proposed priorities (three parties for the Health Services Research, twenty parties for the Mental Health Service Delivery to Deaf, Hard of Hearing, and Deaf-Blind Individuals from Diverse Racial, Ethnic, and Linguistic Backgrounds, and two parties for the Developing Models To Promote the Use of NIDRR Research under the Disability and Rehabilitation Research Projects). We fully discuss these comments as well as changes made in the Analysis of Comments and Changes published as an appendix to this notice.

The backgrounds for the priorities were published in the NPPs.

Generally, we do not address technical and other minor changes and suggested changes the law does not authorize us to make under the applicable statutory authority.

Note: This notice does not solicit applications. In any year in which we choose to use one or more of these priorities, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, an application that meets the invitational priority does not receive competitive or absolute preference over other applications (34 CFR 75.105(c)(1)).

Priorities

Priority 1—Health Services Research Projects

This priority is intended to improve delivery of health services to individuals with disabilities. An applicant must propose research projects under one of the following specific topic areas:

(1) Availability and Access to Community-Based Health Services. To be funded under the priority, a project must:

(a) Investigate the availability and accessibility of community-based health services for individuals with disabilities who move from institutional care to community living or who are at risk for institutional care;

(b) Document the extent to which access to appropriate health services, including home-health, is a component of State task force recommendations regarding transitioning of individuals from institutional to community settings; and

(c) Evaluate the role of accessible community-based mental health services in the successful integration of individuals with long-term mental illness into community settings.

(1) Impact of the Prospective Payment System for Medical Rehabilitation. To be funded under the priority, a project must:

(a) Evaluate the impact of the prospective payment system for medical rehabilitation on access to medical rehabilitation services by individuals with disabilities, examining the impact on settings, services, and length of stay; and

(b) Identify the impact of multiple, health-related conditions, commonly called co-morbidities, on classification and reimbursement in the medical rehabilitation prospective payment system.

(3) Analysis of Quality Indicators for Assessing Health Services Provided to Individuals with Disabilities. To be funded under the priority, a project must:

(a) Conduct an assessment of the use of quality indicators in both the private and public sectors to determine the extent to which the needs of individuals with disabilities are reflected in these indicators;

(b) Examine the relationship of function and disability in defining the population of individuals with disabilities to whom the indicators are applied; and

(c) Determine how individuals with disabilities, payers, and providers use information from quality assessment of medical rehabilitation services.

In addition, each project must:

• Consult with the NIDRR-funded National Center for the Dissemination of Disability Research (NCDDR) to develop and implement, in the first year of the grant, a plan to disseminate the DRRP's research results to: disability organizations, individuals with disabilities or their family members or both, researchers, providers, and policymakers; and

• Ensure the participation of individuals with disabilities in all phases of the research and dissemination activities.

Priority 2—Mental Health Service Delivery to Deaf, Hard of Hearing, and Deaf-Blind Individuals From Diverse Racial, Ethnic, and Linguistic Backgrounds

This priority is intended to enhance the quality of the delivery of mental health services for deaf, hard-of-hearing, or deaf-blind individuals from diverse racial, ethnic, and linguistic backgrounds. For purposes of this priority, “individuals from diverse linguistic backgrounds” includes not only individuals who are fluent in languages other than English, but also individuals with minimal language skills who are not fluent in any language.

To be funded under this priority, a project must choose at least one, but no more than four, of the following research activities:

(1) Investigate, compare, and evaluate the effectiveness of mental health services provided by mental health providers using qualified sign language interpreters as opposed to services provided by mental health providers fluent in sign language. The research project must consider the educational, clinical, and professional credentials of each provider.

(2) Investigate, evaluate, and develop, as needed, model psychological testing instruments for deaf, hard-of-hearing, or deaf-blind individuals from diverse racial, ethnic, and linguistic backgrounds.

(3) Identify, evaluate, and develop, as needed, for use in mental health settings, model communication strategies for individuals with minimal language skills who are deaf, hard-of-hearing, or deaf-blind.

(4) Identify and evaluate factors that assist or hinder entrance into the delivery system of mental health services for deaf, hard-of-hearing, or deaf-blind individuals from diverse racial, ethnic, and linguistic backgrounds.

(5) Identify and evaluate factors that have an impact on the effectiveness of the delivery of mental health services to deaf, hard-of-hearing, or deaf-blind individuals from diverse racial, ethnic, and linguistic backgrounds.

(6) Investigate and evaluate factors that have an impact on mental health service provision in the criminal justice system to deaf, hard-of-hearing, and deaf-blind individuals from diverse racial, ethnic, and linguistic backgrounds, including individuals with minimal language skills.

(7) Investigate, evaluate, and develop, as needed, mental health outcome measures for deaf, hard-of-hearing, or deaf-blind individuals from diverse racial, ethnic, and linguistic backgrounds.

In addition, each project must:

• Involve deaf, hard-of-hearing, and deaf-blind mental health consumers from diverse racial, ethnic, and linguistic backgrounds in all phases of research, as appropriate.

• Involve family members of deaf, hard-of-hearing, and deaf-blind mental health consumers from diverse racial, ethnic, and linguistic backgrounds in all phases of research, as appropriate.

• Involve individuals with disabilities and individuals from diverse racial, ethnic, and linguistic backgrounds in all phases of research, as appropriate.

• As directed by the NIDRR project officer for these programs, collaborate with other NIDRR projects and the National Center for the Dissemination of Disability Research.

Priority 3—Developing Models To Promote the Use of NIDRR Research

This priority is intended to establish a project that will develop and test models for increasing the effective use of NIDRR research results.

To be funded under this priority a project must—

(1) Analyze research information principally produced by NIDRR grantees to determine the extent to which any of the information has not been disseminated or has been disseminated but not effectively used.

(2) Develop models for particular kinds of information, such as engineering, health, employment, education, and independent living, and for particular intended groups such as professionals, individuals with disabilities, their family members, and researchers.

(3) Describe the models and prepare training materials in accessible and alternative formats to assist others to use the models.

(4) Test each model.

(5) Evaluate the success of each model.

In carrying out these activities, the project must:

• Provide training for NIDRR research projects and centers;

• Ensure the relevance of all activities to rehabilitation researchers, individuals with disabilities, and their family members;

• Include techniques to reach individuals from diverse racial, ethnic, and cultural backgrounds; and

• Collaborate with NIDRR-funded projects and centers.

Intergovernmental Review

This program is not subject to Executive Order 12372 and the regulations in 34 CFR part 79.

Applicable Program Regulations: 34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability and Rehabilitation Research Projects)
Program Authority: 29 U.S.C. 762(g) and 764(b).
Dated: September 9, 2002.
Robert H. Pasternack,
Assistant Secretary for Special Education and Rehabilitative Services.

Appendix

Analysis of Comments and Changes

Priority 1—Health Services Research

Comment: Two commenters suggested that NIDRR add depression or other psychological conditions to the study of prospective payment in medical rehabilitation.

Discussion: Applicants could choose to propose a study pertaining to depression or other psychological conditions and the prospective payment system in medical rehabilitation; however, NIDRR has no basis to determine that all applicants should be required to focus on these issues. The peer review process will evaluate the merits of the proposals.

Changes: None.

Comment: One commenter asked for clarification of whether the priority focuses exclusively on acute rehabilitation and not other levels and settings of care.

Discussion: Applicants could choose to propose a study that examines the range of rehabilitation settings; however, the peer review process will evaluate the merits of the proposals.

Changes: None.

Comment: One commenter asked whether the priority should focus on longer intervals of care, rather than a single inpatient rehabilitation admission.

Discussion: Applicants could choose to propose a study that focuses on longer intervals of care; however, NIDRR has no basis to determine that all applicants should be required to focus on this issue. The peer review process will evaluate the merits of the proposals.

Changes: None.

Comment: One commenter asked whether NIDDR would allow applicants to propose related projects within a single proposal. This commenter was concerned because relevant Medicare data for examining the impact of Prospective Payment System (PPS) will not be available until later in the time period for the proposed grant award(s).

Discussion: Applicants could choose to propose related projects during the course of the study; the peer review process will evaluate the merits of the proposals.

Changes: None.

Comment: One commenter asked whether priority (2)(b) duplicates work that the Center for Medicaid and Medicare Services (CMS) plans to perform to recalculate medical rehabilitation prospective payment adjustments and asked if there were specific issues about this process of concern to NIDRR, such as “omitted comorbidity codes in the IRF-PAI, inconsistent coding of comorbidities, or comorbidities that develop or become apparent after an inpatient rehabilitation hospitalization.”

Discussion: NIDRR is not specifying that applicants duplicate work being undertaken by CMS. It is anticipated that NIDRR's research will build on and support research being done at CMS by focusing on issues specifically affecting provision of and access to medical rehabilitation services for persons with disabilities. To the extent that the topic examples provided in the comment meet this expectation, applicants could choose to propose research on one of these areas. The peer review process will evaluate the merits of the proposals.

Changes: None.

Priority 2—Mental Health Service Delivery to Deaf, Hard of Hearing, and Deaf-Blind Individuals From Diverse Racial, Ethnic, and Linguistic Backgrounds

Comment: Several commenters suggested that the priority include mental health service delivery to deaf, hard of hearing, and deaf-blind individuals in the criminal justice system, including both prisons and courtrooms. Competency determinations, particularly for deaf, hard-of-hearing, and deaf-blind persons with limited language abilities, therapies and psycho-educational programs within the prison system, communications accessibility and general mental health service delivery were described as areas in need of research.

Discussion: A review of the literature reveals a paucity of published information regarding mental health service delivery to deaf, hard-of-hearing, and deaf-blind individuals in the criminal justice system. This indeed suggests a need for further study and research.

Changes: The final priority invites applicants to investigate and evaluate factors that have an impact on mental health service provision in the criminal justice system to deaf, hard-of-hearing, and deaf-blind individuals from diverse racial, ethnic, and linguistic backgrounds.

Comment: Several commenters suggested that the priority include a focus on mental health service delivery to deaf, hard-of-hearing, and deaf-blind children.

Discussion: NIDRR agrees that a focus on children would be worthwhile, and applicants may submit applications in this area. However, NIDRR has no basis to determine that all applicants should be required to focus on these issues. The peer review process will evaluate the merits of the proposals.

Changes: None.

Comment: One commenter suggested that funding eligibility be prioritized to State Departments of Mental Health Research Divisions, with academic institution support and consultation.

Discussion: U.S. Department of Education regulations implementing the Rehabilitation Act (34 CFR 350.3) stipulate who is eligible for an award. States and institutions of higher education are included on that list, as are public or private agencies, including for-profit agencies, public or private organizations, including for-profit organizations, and Indian tribes and tribal organizations. NIDRR will consider applications from any applicant that meets the statutory requirements under the funding authority. The peer review process will evaluate the merits of submitted proposals.

Changes: None.

Comment: One commenter suggested a focus on mental health service delivery in rural areas.

Discussion: NIDRR is concerned about mental health service delivery in rural areas. Applicants may propose to study service delivery in rural areas under questions (4) or (5); however, NIDRR has no basis to determine that all applicants should be required to focus on these issues. The peer review process will evaluate the merits of the proposals.

Changes: None.

Comment: Two commenters suggested that the priority require that deaf, hard of hearing, and deaf-blind mental health consumers from diverse backgrounds be included in all stages of research.

Discussion: NIDRR is a strong proponent of participatory action research and encourages consumer involvement in all stages of NIDRR-sponsored research. The proposed priority requires the involvement of individuals with disabilities, including deaf, hard-of-hearing, and deaf-blind individuals and individuals from diverse racial, ethnic, and linguistic backgrounds. This designation includes mental health consumers and deaf, hard-of-hearing, and deaf-blind mental health consumers.

Changes: The final priority specifies that deaf, hard-of-hearing, and deaf-blind mental health consumers should be included in all phases of research.

Comment: One commenter suggested that NIDRR require that family members be included in all stages of research.

Discussion: NIDRR agrees that the addition of family members would be helpful to the research process.

Changes: The priority has been changed to include a requirement that family members be included in all stages of research.

Comment: One commenter suggested that the research priority focus on mental health generally, rather than focusing specifically on mental health and deafness.

Discussion: NIDRR funds (and has funded) a variety of mental health-related initiatives, of which this is one. The background statement supporting this priority is available from the person listed in FOR MORE INFORMATION CONTACT or in the application package. It demonstrates a compelling need for research in this particular area. Therefore, NIDRR has decided upon this area of focus.

Changes: None.

Comment: One commenter noted the growing importance of interactive video technology in psychological test instruments.

Discussion: Applicants may propose research related to interactive video technology under question (2), which deals with model psychological test instruments, or under question (5), which covers factors that have an impact on the effectiveness of service delivery. However, NIDRR has no basis to determine that all applicants should be required to focus on this issue. The peer review process will evaluate the merits of the proposals.

Changes: None.

Comment: One commenter suggested that question (2) be split into two separate research questions so that psychological test instruments and mental health outcome measures are listed as two separate research areas.

Discussion: NIDRR recognizes that different areas of expertise may be needed for research on psychological test instruments and mental health outcome measures.

Changes: The priority has been changed to include two separate research activities, one on psychological test instruments and a separate activity on mental health outcome measures.

Comment: One commenter suggested that the order of the listed research questions be changed to: (4), (5), (1), (2), (3), to demonstrate that the questions are interconnected and do not stand apart from each other.

Discussion: The scope of this grant is small, encouraging depth of focus. Applicants are instructed to select between one and four research questions. Applicants may, but are not required to, conceptualize the research questions as an interconnected whole.

Changes: None.

Comment: One commenter suggested that the priority be specific as to which population (deaf, hard-of-hearing, or deaf-blind) is being addressed, since each population has separate needs.

Discussion: Within the scope of the priority, applicants may choose to focus on any population or grouping of populations. The peer review process will evaluate the merits of the proposals.

Changes: None.

Comment: A number of commenters raised the issue of the use of technology in mental health service delivery for deaf, hard-of-hearing, and deaf-blind individuals.

Discussion: Technology is an area ripe for research, and NIDRR encourages those who are interested to submit proposals in this area. The peer review process will evaluate the merits of the proposals.

Changes: None.

Comment: One commenter stated that the issue of direct communication with a therapist who can sign, as opposed to communication with therapists via interpreters is not relevant given recent technological developments such as cochlear implants and voice-to-text computers.

Discussion: Recent technological developments certainly are relevant to communication in mental health settings. However, they do not render the question of therapists who sign vs. those who use interpreters irrelevant. Many deaf, hard-of-hearing, and deaf-blind individuals do not use voice-to-text computers or do not have cochlear implants. If applicants wish to propose research on technology in mental health settings, they are encouraged to do so. However, NIDRR has no basis to determine that all applicants should be required to focus on these issues. The peer review process will evaluate the merits of the proposals.

Changes: None.

Comment: Two commenters suggested that the priority include a focus on deaf, hard-of-hearing, and deaf-blind individuals who communicate orally as well as those who communicate through sign language. One suggested a focus on the use of technology with oral deaf persons.

Discussion: Applicants may propose projects that focus on oral, manual, or any other type of communication, including technological. The peer review process will evaluate the merits of the proposals.

Changes: None.

Comment: One commenter suggested that the term “late-deafened” be added to the priority, noting that for individuals who are late-deafened, deafness may be seen as a loss rather than as a culture (as it is for many pre-lingually deaf people). This commenter also noted that late-deafened individuals may have different social, emotional and vocational experiences than pre-lingually deaf individuals.

Discussion: Individuals who are late-deafened are subsumed under the category “deaf” and thus are included in the priority. NIDRR recognizes that the social, emotional, vocational and communicative experiences of late-deafened individuals may differ from those of culturally deaf individuals. Applicants may choose to focus research on the specific needs of late-deafened individuals. The peer review process will evaluate the merits of the proposals.

Changes: None.

Comment: One commenter noted that research is needed on the use of interpreters with deaf, hard-of-hearing, and deaf-blind individuals who have minimal language skills (MLS). This commenter noted, for example, that specialized training is needed for MLS interpreters, and that the use and role of deaf interpreters for deaf, hard-of-hearing, and deaf-blind people with MLS should be studied.

Discussion: These indeed are important issues, and they can be proposed under question (3) of the priority. The peer review process will evaluate the merits of the proposals.

Changes: None.

Comment: One commenter suggested research into the “one-stop shop” concept for purposes of mental health service delivery to deaf, hard-of-hearing, and deaf-blind individuals.

Discussion: Applicants may propose research into the “one-stop shop” concept under questions (4) or (5) of this priority. However, NIDRR has no basis to determine that all applicants should be required to focus on this issue. The peer review process will evaluate the merits of the proposals.

Changes: None.

Comment: One commenter stated that funds should be directed to obtaining basic prevalence, demand, and incidence data to define the scope of a particular study within a particular geographic area.

Discussion: An exploration of prevalence, demand, and incidence data within a particular geographic area could be included within an application for funding. However, NIDRR has no basis to determine that all applicants should be required to focus on this issue. The peer review process will evaluate the merits of the proposals.

Changes: None.

Comment: One commenter suggested the development of standards for clinician sign language competency, and noted that many clinicians who think they can communicate in sign language in fact are not competent.

Discussion: Clinician sign language competency could be a measure of treatment effectiveness for clinicians who sign for themselves, and could be studied under question (1). The development of actual standards of competence would need to be done in conjunction with appropriate sign language agencies and professionals in the deaf community. An applicant could propose such a project as part of question (1). The peer review process would evaluate the merits of the proposals.

Changes: None.

Comment: One commenter suggested that the priority focus on systems of care rather than clinical issues.

Discussion: Applicants who wish to focus on systems of care issues may do so under questions (4), (5), or (6). The peer review process will evaluate the merits of the proposals.

Changes: None.

Comment: One commenter suggested a focus on a comprehensive mental health delivery system for deaf, hard-of-hearing, or deaf-blind persons. The commenter noted that the system should include a broad focus of therapeutic options such as: housing, substance abuse rehabilitation, case management, mental health therapists fluent in American Sign Language, and sign language interpreters (for when signing therapists are unavailable).

Discussion: Applicants who wish to focus on systems of care issues may do so under questions (4), (5), or (6). The peer review process will evaluate the merits of the proposals.

Changes: None.

Comment: One commenter stated that psychological testing for hard-of-hearing and late-deafened individuals currently is not a problem and does not need attention in the priority.

Discussion: All applicants, including those focusing on psychological test instruments, will need to define and justify their target population(s). The literature review will be an important part of that justification. The peer review process will evaluate the merits of submitted proposals.

Changes: None.

Comment: One commenter suggested that the priority focus on deaf, hard-of-hearing, and deaf-blind populations generally, and include diversity within that focus (rather than focusing exclusively on diversity).

Discussion: The focus of this priority is on persons from diverse racial, ethnic, and linguistic backgrounds. However, individual applicants may devise their own organizational framework, including target population. The peer review process will evaluate the merits of submitted proposals.

Changes: None.

Comment: One commenter suggested educating clinicians on communication with deaf-blind individuals.

Discussion: An applicant could pursue this issue under question (3), covering model communication strategies with deaf, hard-of-hearing, or deaf-blind individuals who have minimal language skills, or under questions (4) or (5). The peer review process will evaluate the merits of the proposals.

Changes: None.

Priority 3—Developing Models To Promote the Use of NIDRR Research

Comment: One commenter suggested that the priority be broadened to include research projects that were not sponsored by NIDRR.

Discussion: NIDRR understands the value of research sponsored by other entities, and it may be necessary to look at this research to fully develop topic areas; however, an emphasis on NIDRR-sponsored research is preferred.

Changes: The priority has been changed to reflect that NIDRR-sponsored research is preferred.

Comment: One commenter felt that nondisability-focused research should be included, such as that pertaining to welfare-to-work projects, in order to infuse disability research with what has been learned in that area and to promote the transfer of disability research to the non-disability field.

Discussion: This comment is broader than the proposed priority area to develop specific models that could be useful for the utilization of disability research. Just developing a model that includes other types of research will not achieve the kind of outcome this commenter seeks. This might lend itself to a broader priority in the future.

Changes: None.

Comment: One commenter suggested that bullet number 3 be changed to add the words “alternate media” to ensure that training materials produced would be ready for use with audiences with disabilities.

Discussion: NIDRR agrees that NIDRR supported programs should develop products that are accessible to all individuals, including alternative formats.

Changes: The priority has been changed to add the word alternative.

Comment: One commenter suggested that the second unnumbered bullet be amended to include the words “rehabilitation researchers and” individuals with disabilities.

Discussion: NIDRR wants to ensure that this priority is relevant to rehabilitation researchers and to individuals with disabilities. In the original priority, we required participation of individuals with disabilities.

Changes: The priority has been changed to reflect rehabilitation researchers, as well as family members.

[FR Doc. 02-23270 Filed 9-11-02; 8:45 am]

BILLING CODE 4000-01-P